DEPARTMENT OF AGRICULTURE

Submission for OMB Review; Comment Request

The Department of Agriculture has submitted the following information collection requirement(s) to OMB for review and clearance under the Paperwork Reduction Act of 1995, Public Law 104-13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Healthy Incentives Pilot Evaluation.

OMB Control Number: 0584-NEW.

Summary of Collection: The Food, Conservation, and Energy Act of 2008, also known as the 2008 Farm Bill (Pub. L. 110-246), Section 4141 (K) (3) (E) authorizes funds for pilot projects to evaluate health and nutrition promotion in the Supplemental Nutrition Assistance Program (SNAP) to determine if nutrition education and incentives provided to SNAP recipients at the point-of-sale increase the consumption of fruits, vegetables, or other healthful foods. The legislation also provided for an evaluation of the funded pilot project. On the bases of this legislative authority, the Food and Nutrition Service (FNS) designed the Healthy Incentives Pilot (HIP) and its evaluation.

Need and Use of the Information: FNS will use the collected information from the pilot to determine if SNAP recipients participating in HIP have higher fruit and vegetable consumption than recipients who did not receive the incentive. The data will also permit analysis of how impacts vary by recipients characteristics. The data collection is also essential for allowing FNS to determine the potential implications of a nationwide HIP-like program.

Description of Respondents: Individuals or household; State, Local or Tribal Government; Not-for-profit institutions; Business or other for-profit.

Number of Respondents: 4,383.

Frequency of Responses: Reporting: On occasion.

Total Burden Hours: 4,831.

Food and Nutrition Service

Title: Child Nutrition Database.

OMB Control Number: 0584-0494.

Summary of Collection: The Child Nutrition (CN) Database is a necessary component in implementation of USDA's Food and Nutrition Service (FNS) National School Lunch Program (NSLP) and School Breakfast (SBP): School Meals Initiative for Healthy Children final rule published in the June 13, 1995 Federal Register, Volume 60, No. 113. The regulations (7 CFR 210.10) require school food authorities (SFAs) following the Nutrient Standard Menu Planning option to conduct a nutrient analysis which require nutrient data contained in a wide range of foods. The CN Database provides the SFAs with the necessary nutrient information for this purpose.

Need and Use of the Information: FNS will collect information on (1) USDA commodities; (2) USDA Nutrient Database for Standard Reference food items which are used in the SBP and NSLP; (3) quantity recipes for school food service developed by USDA; and (4) brand name commercially processed foods. Implementation of Nutrient Standard Menu Planning is dependent upon the school or school food authority's ability to analyze the nutrient content of foods. The information gathered for the CN Database is required to be used in software programs approved by USDA for use in meeting the nutrient standards and nutrition goals of the Child Nutrition Programs. Both the State agencies and program operators use the information for auditing and menu planning purposes. If the information is not collected or updated regularly for the CN Database, the nutrient data will become less useful to program operators, causing them to rely on their vendor for required nutritional information.

Description of Respondents: Business or other for-profit.

Number of Respondents: 32.

Frequency of Responses: Report: Other (as needed).

Total Burden Hours: 2,240.

Dated: May 26, 2011.
Ruth Brown,
Departmental Information Collection Clearance Officer.

[FR Doc. 2011-13506 Filed 5-31-11; 8:45 am]

BILLING CODE 3410-30-P